DEPARTMENT OF JUSTICE

Antitrust Division

Notice Pursuant to the National Cooperative Research and Production Act of 1993—Insulating Glass Manufacturers Alliance

Notice is hereby given that, on September 15, 2004, pursuant to Section 6(a) of the National Cooperative Research and Production Act of 1993, 15 U.S.C. 4301 et seq. (“the Act”), Insulating Glass Manufacturers Alliance (“IGMA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: Insulating Glass Manufacturers Alliance, Ottawa, Ontario, CANADA. The nature and scope of IGMA's standards development activities are: To develop and coordinate voluntary consensus standards applicable to the production of insulating glass units primarily through its sponsorship and administration of a certification program for insulating glass units. The IGMA certification program recognizes the need for regular and impartial product testing, maintenance of quality control in the manufacturing process, and identification of products that conform to established criteria. Products eligible for certification under the IGMA certification program are insulating glass units meeting the current published version of one or more of the following: (1) ASTM E2190, Standard Specification for Insulating Glass Unit Performance and Evaluation; (2) CAN CGSB 12.8, Insulating Glass Units. IGMA contracts with independent agencies and/or auditors to perform facility audits and compliance audits to ensure eligibility for certification. As part of the certification program, IGMA also provides guidelines to manufacturers and others for the implementation of quality assurance programs to ensure in-plant quality control.

Dorothy B. Fountain,
Deputy Director of Operations, Antitrust Division.

[FR Doc. 04-26198 Filed 11-26-04; 8:45 am]

BILLING CODE 4410-11-M